ENVIRONMENTAL PROTECTION AGENCY

40 CFR Part 52

[EPA-R07-OAR-2014-0399; FRL-9923-66-Region 7]

Air Quality State Implementation Plans; Approval and Promulgation: Missouri; St. Louis Inspection and Maintenance Program

AGENCY: Environmental Protection Agency.

ACTION: Final rule.

SUMMARY: The Environmental Protection Agency (EPA) is taking final action to approve revisions to the State Implementation Plan (SIP) submitted by the State of Missouri relating to its vehicle Inspection and Maintenance (I/M) Program. On August 16, 2007, and December 7, 2007, the Missouri Department of Natural Resources (MDNR) requested to amend the SIP to replace the St. Louis centralized vehicle test program, called the Gateway Clean Air Program (GCAP), with a de-centralized, OBD-only vehicle I/M program called the Gateway Vehicle Inspection Program (GVIP). In this action, EPA is also approving three additional SIP revisions submitted by Missouri related to the state's I/M program including: Exemptions for specially constructed vehicles or “kit-cars,” exemptions for Plugin Hybrid Electric Vehicles (PHEV), and rescission of Missouri State Highway Patrol rules from the Missouri SIP.

These revisions to Missouri's SIP do not have an adverse effect on air quality as demonstrated in the technical support document which is a part of this docket. EPA's approval of these SIP revisions is being done in accordance with the requirements of the Clean Air Act (CAA).

DATES: This final rule is effective on April 2, 2015.

ADDRESSES: EPA has established a docket for this action under Docket ID No. EPA-R07-OAR-2014-0399. All documents in the docket are listed on the www.regulations.gov Web site. Although listed in the index, some information is not publicly available, i.e., CBI or other information whose disclosure is restricted by statute. Certain other material, such as copyrighted material, is not placed on the Internet and will be publicly available only in hard copy form. Publicly available docket materials are available either electronically through www.regulations.gov or in hard copy at the Environmental Protection Agency, Air Planning and Development Branch, 11201 Renner Boulevard, Lenexa, Kansas 66219. The Regional Office's official hours of business are Monday through Friday, 8:00 a.m. to 4:30 p.m. excluding Federal holidays. The interested persons wanting to examine these documents should make an appointment with the office at least 24 hours in advance.

FOR FURTHER INFORMATION CONTACT: Steven Brown, Environmental Protection Agency, Air Planning and Development Branch, 11201 Renner Boulevard, Lenexa, Kansas 66219 at 913-551-7718, or by email at brown.steven@epa.gov.

SUPPLEMENTARY INFORMATION: Throughout this document “we,” “us,” or “our” refer to EPA. This section provides additional information by addressing the following:

I. What is being addressed in this document?

II. Have the requirements for approval of a SIP revision been met?

III. EPA's response to comments.

IV. What action is EPA taking?

I. What is being addressed in this document?

EPA is approving revisions to the St. Louis vehicle I/M program to replace the centralized, transient I/M240 vehicle I/M program (GCAP) with the de-centralized, OBD-only, vehicle I/M program (GVIP). MDNR submitted to EPA five SIP revision submissions to address the vehicle I/M program replacement and associated state rule, plus one supplemental demonstration. They are as follows:

On August 16, 2007, MDNR requested that Missouri Rule 10 CSR 10-5.380, “Motor Vehicle Emissions Inspection” be rescinded and replaced with rule 10 CSR 10-5.381, “On-Board Diagnostics Motor Vehicle Emissions Inspection.” In that same submittal letter, MDNR also requested that Missouri Rule 10 CSR 10-5.375, “Motor Vehicles Emissions Inspection Waiver” be rescinded. EPA is not taking any action on 10 CSR 10-5.375 as it is being replaced in its entirety with the GVIP I/M program, Missouri Rule 10 CSR 10-5.381.

On December 14, 2007, MDNR submitted the new GVIP plan and performance standard demonstration to show that the GVIP program meets the basic requirements as described in 40 CFR part 51 subpart S. This submission also requests that EPA approve the plan to replace the GCAP I/M program with the new GVIP program.

On December 21, 2007, Missouri submitted a revision requesting that the Missouri State Highway Patrol rules be removed from the Missouri SIP because the new rule, 10 CSR 10-5.381, does not rely on the Missouri Highway Patrol rules for enforcement. More details can be found in the technical support document that is a part of this docket.

On January 2, 2009, MDNR submitted a required supplemental demonstration for I/M network type and program evaluation as required by 40 CFR 51.353. This demonstration is required within one year after the I/M program begins.

On June 17, 2009, Missouri submitted a revision to I/M rule 10 CSR 10-5.381 which includes minor clarification edits and exempts specially constructed vehicles or “kit-cars” from the rule.

On December 10, 2012, Missouri submitted a revision to exempt Plugin Hybrid Electric Vehicles (PHEV) from the I/M program as codified in rule 10 CSR 10-5.381.

As part of our review, EPA performed a separate analysis of all the state's SIP submissions and a cumulative air quality analysis as documented in the technical support document that is part of this docket. EPA's analysis shows that these SIP revisions do not adversely affect air quality in the St. Louis area and are approvable.

II. Have the requirements for approval of a SIP revision been met?

The state submission has met the public notice requirements for SIP submissions in accordance with 40 CFR 51.102. The submission also satisfied the completeness criteria of 40 CFR part 51, appendix V. In addition, as explained above and in more detail in the technical support document which is part of this docket, the revision meets the substantive SIP requirements of the CAA, including section 110 and implementing regulations.

III. EPA's Response to Comments

The public comment period on EPA's proposed rule opened December 28, 2014, the date of its publication in the Federal Register, and closed on January 29, 2015. During this period, EPA received five comments from one anonymous commenter.

Comment 1: The commenter contends that while no action is necessary with regards to removing Missouri Rule 10 CSR 10-5.375 from the SIP because Missouri is replacing the GCAP program with the GVIP program, EPA incorrectly stated that Missouri Rule 10 CSR 10-5.375 was not part of the SIP.

Response 1: EPA agrees with the commenter that 10 CSR 10-5.375 was included in list number 47 in 40 CFR 52.1320(e) under “Vehicle I/M Program” and also should have been listed in 40 CFR 52.1320(c) but was not. EPA also agrees that no action is necessary to remove 10 CSR 10-5.375 from the SIP as the GCAP I/M program is being wholly replaced with the GVIP I/M program. Therefore, no action is necessary on Missouri's request to remove Missouri rule CSR 10-5.375 from the SIP.

Comment 2: The commenter contends that the analysis performed to show that the new I/M program meets the performance standard did not account for the removal of both the IM240 and single speed idle test and therefore was done improperly.

Response 2: Missouri is not required to include a performance standard test for IM240 and single speed idle testing as Missouri is only required to meet the Basic Performance Standard test set forth by EPA. The reason for the performance standard testing was to give an indication of whether or not the GVIP program would satisfy the minimum requirements of EPA's I/M rule. The GVIP program's modeling parameters used by Missouri during this Basic Performance Standard test analysis were correctly identified and performed adequately. The technical support document (TSD) supplied in the docket reviews the performance standard test results and also includes a section 110(l) modeling exercise that compares the GCAP and GVIP I/M programs emissions results.

Comment 3: The commenter states that portions of the St. Louis area are required to have an enhanced I/M program as part of the 1-hour ozone maintenance plan which covers the second ten-year maintenance plan and beyond. The commenter says that this means that until Missouri has demonstrated that the enhanced I/M program is no longer necessary, and EPA approves this demonstration, the St. Louis area is still required to have an enhanced I/M program.

Response 3: Under the 1-hour standard, the St. Louis area was classified as moderate non-attainment and was only required to do a basic I/M program. At the time the GCAP was approved, its emission reductions were compared to those that would be achieved by the basic I/M performance standard and were found to exceed the performance standard. Because the GCAP program met the applicable performance standard as well as providing the additional emission reductions required under the attainment plan, it was approved. Today's action, among other things, is approving the replacement of the GCAP program with the GVIP program which has also been found to meet the minimum basic program requirements but also achieves greater emission reductions than the GCAP program it replaces as demonstrated by the section 110(l) analysis included in the TSD in the docket for today's action. The GVIP program meets all the requirements previously met by the GCAP when it was approved into the SIP. Today's action does not weaken or remove the I/M program from the SIP as demonstrated in the TSD, contrary to what is implied by the commenter. Additionally, Missouri relies on the GVIP program and it is specifically relied upon in the St. Louis area's 1997 8-hour ozone maintenance plan.

Comment 4: The commenter states that Missouri's emissions analysis uses the outdated EPA mobile model, MOBILE-6, and that because Missouri submitted this SIP revision over five years ago and EPA has not acted on it, the burden should be on EPA to perform an additional analysis utilizing the updated EPA mobile model, MOVES2014.

Response 4: EPA did perform an additional modeling analysis utilizing MOVES2014 to compare the GCAP and GVIP I/M program differences for control efficiency and emissions results for the St. Louis area. The results show that the GVIP program achieves greater emission reductions than the GCAP program. These results can be found in the TSD which is part of this docket.

Comment 5: The commenter states that EPA should perform an additional modeling analysis that uses the performance standard in the February 2014 guidance document EPA-420-B-14-006. The commenter further states that by using this guidance any analysis will show that the removal of the IM240 test and single speed idle test will result in a loss of NOX and VOC emission reductions and that losses will need to be compensated for with other emission reduction measures.

Response 5: Additional performance standard modeling is only required if changes are made to an approved I/M program prior to attaining the standard for which the program was adopted (section 4.0, EPA guidance document: EPA-420-B-14-006). Missouri has attained the standard(s) for which the program was adopted. Once an area goes from being a nonattainment area to an attainment and maintenance area, the only analysis required when changing an I/M program is to estimate the shortfall, if any, created by the change as part of a required 110(l) demonstration. The 110(l) demonstration modeling contained in the TSD, provided in the docket, was performed using the February 2014 guidance cited in the comment and shows that there was no shortfall created by the change from the GCAP to the GVIP which is being approved through this action.

IV. What action is EPA taking?

EPA is taking final action to amend the Missouri SIP to approve revisions to St. Louis vehicle I/M program. While these SIP revisions were submitted in separate requests, they are direct changes to the St. Louis Vehicle Inspection Program and are being addressed in one SIP action.

Statutory and Executive Order Reviews

In this rule, EPA is finalizing regulatory text that includes incorporation by reference. In accordance with requirements of 1 CFR 51.5, EPA is finalizing the incorporation by reference of the Missouri rule 10-5.381 “On Board Diagnostics Motor Vehicle Emissions Inspection” described in the amendments to 40 CFR part 52 set forth below.” EPA has made, and will continue to make, these documents generally available electronically through www.regulations.gov and/or in hard copy at the appropriate EPA office (see the ADDRESSES section of this preamble for more information).

Under the Clean Air Act (CAA), the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by May 4, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 18, 2015.
Karl Brooks,
Regional Administrator, Region 7.

For the reasons stated in the preamble, the Environmental Protection Agency amends 40 CFR part 52 as set forth below:

PART 52—APPROVAL AND PROMULGATION OF IMPLEMENTATION PLANS

1. The authority citation for part 52 continues to read as follows:

Authority: 42 U.S.C. 7401 et. seq.

Subpart AA—Missouri

2. In § 52.1320(c) the table is amended by:

a. Removing the entry for “10-5.380”;

b. Adding in numerical order the entry for “10-5.381”; and

c. Removing the chapter title “Missouri Department of Public Safety Division 50-State Highway Patrol Chapter 2—Motor Vehicle Inspection” and its entries for “50-2.010 through 50-2.420”.

The addition reads as follows:

§ 52.1320 Identification of Plan.

* * * * *

(c) * * *

EPA-Approved Missouri Regulations
Missouri citation | Title | State effective date | EPA approval date | Explanation
Missouri Department of Natural Resources
* * * * * * *
Chapter 5—Air Quality Regulations and Air Pollution Control Regulations for the St. Louis Metropolitan Area
* * * * * * *
10-5.381 | On-Board Diagnostics Motor Vehicle Emissions Inspection | 12/30/12 | 3/3/15 [Insert Federal Register citation] |
* * * * * * *

* * * * *

[FR Doc. 2015-04271 Filed 3-2-15; 8:45 am]

BILLING CODE 6560-50-P